DEPARTMENT OF LABOR

Employment and Training Administration

[NAFTA-4550]

Freightliner LLC, Mt. Holly Manufacturing, Mt. Holly, North Carolina; Notice of Revised Determination on Reconsideration

By application of May 31, 2001, the International Union, United Automobile, Aerospace & Agricultural Implement Workers of America (UAW), UAW Region 8 and Local Union 5285, requested administrative reconsideration of the Departments denial Regarding Eligibility to Apply for North American Free Trade Agreement-Transitional Adjustment Assistance (NAFTA-TAA), applicable to workers and former workers of the subject firm. The denial notice was issued on April 13, 2001 and published in the Federal Register on May 2, 2001 (66 FR 22007).

The workers produced medium and heavy duty trucks. The workers were denied NAFTA-TAA on the basis that there was no shift in production (except for a temporary shift) to Mexico or Canada, nor did imports from Canada or Mexico contribute importantly to workers' separations.

The union provided additional information indicating that a shift in plant production occurred during the relevant period. Information provided by the company verified that there was a shift in business class truck production (cargo and cab-in-white for extended and crew cab) to Mexico during the relevant period. The shift in production to Mexico was the primary factor contributing to the layoffs at the subject plant. The workers were separately identifiable.

Conclusion

After careful review of the facts obtained in the investigation, I conclude that there was a shift in production from the workers' firm to Mexico of articles like or directly competitive with those produced by the subject firm. In accordance with the provisions of the Trade Act, I make the following certification:

All workers of Freightliner LLC, Mt. Holly Truck Manufacturing Plant, Mt. Holly, North Carolina, engaged in activities related to the production of business class trucks (cargo and cab-in-white for extended and crew cab), who became totally or partially separated from employment on or after October 10, 1999, through two years from the date of certification, are eligible to apply for NAFTA-TAA under Section 250 of the Trade Act of 1974.

Signed at Washington, DC this 13th day of November 2001.
Edward A. Tomchick,
Director, Division of Trade Adjustment Assistance.

[FR Doc. 01-30062 Filed 12-4-01; 8:45 am]

BILLING CODE 4510-30-M